DEPARTMENT OF LABOR

Mine Safety and Health Administration

Petitions for Modification

The following parties have filed petitions to modify the application of existing safety standards under section 101(c) of the Federal Mine Safety and Health Act of 1977.

1. Mallie Coal Company, Inc.

[Docket No. M-2002-102-C]

Mallie Coal Company, 8442 Hwy. 6, Corbin, Kentucky 40701 has filed a petition to modify the application of 30 CFR 75.380(f)(4)(i) (Escapeways; bituminous and lignite mines) to its Mine No. 6 (MSHA I.D. No. 15-18440) located in Knox County, Kentucky. The petitioner proposes to use one ten pound or two five pound portable chemical fire extinguishers on each Mescher Jeep used for traveling in the primary escapeway at the Mine No. 6. The petitioner states that the equipment operator will inspect each fire extinguisher on a daily basis prior to entering the primary escapeway, that records of examinations will be maintained and defective fire extinguishers will be replaced prior to entering the mine. The petitioner asserts that the proposed alternative method would provide a greater measure of protection than the existing standard.

2. Mallie Coal Company, Inc.

[Docket No. M-2002-103-C]

Mallie Coal Company, Inc., 8442 Hwy. 6, Corbin, Kentucky 40701 has filed a petition to modify the application of 30 CFR 75.342 (Methane monitors) to its Mine No. 6 (MSHA I.D. No. 15-18440) located in Knox County, Kentucky. The petitioner proposes to use hand-held continuous-duty methane and oxygen detectors in lieu of machine mounted methane monitors on three-wheel tractors with drag bottom buckets. The petitioner asserts that the operator will be qualified in the proper use of said detector and that application of the existing standard would reduce the safety of the miners.

3. Mettiki Coal, LLC

[Docket No. M-2002-104-C]

Mettiki Coal, LLC, 1001 Pennsylvania Avenue, NW, Washington, DC 20004-2595 has filed a petition to modify the application of 30 CFR 77.214(a) (Refuse piles; general) to its Mettiki's General Mine (MSHA I.D. No. 18-00671) located in Garrett County, Maryland. The petitioner requests a modification of the existing standard to permit the extension of its Mettiki General's refuse pile over four sealed openings to the abandoned Mettiki Gobbler's Knob Mine. The petitioner has listed specific terms and conditions in this petition that would be followed to comply with the proposed alternative method. The petitioner asserts that the proposed alternative method would provide at least the same measure of protection as the existing standard.

4. Mears Enterprises, Inc.

[Docket No. M-2002-105-C]

Mears Enterprises, Inc., PO Box 157, 410 Franklin Street, Clymer, PA 15728 has filed a petition to modify the application of 30 CFR 75.1100-2(e)(2) (Quantity and location of firefighting equipment) to its Dora No. 8 Mine (MSHA I.D. No. 36-08704) located in Jefferson County, Pennsylvania. The petitioner requests a modification of the existing standard to permit an alternate method of compliance for the use of firefighting equipment required at temporary electrical installations at the Dora No. 8 Mine. The petitioner proposes to use two fire extinguishers at all temporary electrical installations instead of using one portable fire extinguisher and 240 pounds of rock dust. The petitioner asserts that the proposed alternative method would provide at least the same measure of protection as the existing standard with no diminution of safety to the miners.

5. Highland Mining Company

[Docket No. M-2002-106-C]

Highland Mining Company, 1970 Barrett Court, PO Box 1990, Henderson, Kentucky 42419 has filed a petition to modify the application of 30 CFR 75.1101-1(b) (Deluge-type water spray systems) to its Highland 9 Mine (MSHA I.D. No. 15-02709) located in Union County, Kentucky. The petitioner proposes to have a trained person conduct a weekly examination and functional test of the deluge type fire suppression systems installed at conveyor belt drives in lieu of using dust covers for nozzles of water deluge fire suppression system. The petitioner states that the trained person would conduct a visual examination at each water deluge type fire suppression system, and conduct a function test of the water deluge type fire suppression systems by actuating the system and observing its performance. The petitioner further states that the results of the examinations and functional tests would be recorded in a book that would be maintained on the surface. The book would be made available to the authorized representative of the Secretary and retained for one year. The petitioner also proposes to correct any malfunction or clogged nozzle detected as a result of the weekly examination or functional test immediately, and post the procedure used to perform the functional test at or near each belt drive which utilizes a water deluge fire suppression system. The petitioner asserts that the proposed alternative method would provide at least the same measure of protection as the existing standard.

6. Highland Mining Company

[Docket No. M-2002-107-C]

Highland Mining Company, 1970 Barrett Court, PO Box 1990, Henderson, Kentucky 42419-1990 has filed a petition to modify the application of 30 CFR 75.1101-1(b) (Deluge-type water spray systems) to its Highland 11 Mine (MSHA I.D. No. 15-18480) located in Union County, Kentucky. The petitioner proposes to have a trained person conduct a weekly examination and functional test of the deluge type fire suppression systems installed at conveyor belt drives in lieu of using dust covers for nozzles of water deluge fire suppression systems. The petitioner states the trained person would conduct a visual examination at each water deluge type fire suppression system, and conduct a function test of the water deluge type fire suppression systems by actuating the system and observing its performance. The petitioner further states that the results of the examinations and functional tests would be recorded in a book that would be maintained on the surface. The book would be made available to the authorized representative of the Secretary and retained for one year. The petitioner also proposes to correct any malfunction or clogged nozzle detected as a result of the weekly examination or functional test immediately, and post the procedure used to perform the functional test at or near each belt drive which utilizes a water deluge fire suppression system. The petitioner asserts that the proposed alternative method would provide at least the same measure of protection as the existing standard.

7. A, B & J Coal Company, Inc.

[Docket No. M-2002-108-C]

A, B & J Coal Company, Inc., PO Box 35, Vansant, Virginia 24656 has filed a petition to modify the application of 30 CFR 75.503 (Permissible electric face equipment; maintenance) and 30 CFR 18.41(f) (Plug and receptacle-type connectors), respectively, to its Mine #3C (MSHA I.D. No. 15-18313) located in Pike County, Kentucky. The petitioner proposes to use a permanently installed spring-loaded locking device on battery plug connectors on mobile battery-powered equipment. The spring-loaded locking device would prevent unintentional loosening of the battery plugs from battery receptacles and eliminate the hazards associated with difficult removal of padlocks during emergency situations. The petitioner asserts that the proposed alternative method would provide at least the same measure of protection as the existing standard.

8. Coastal Coal-West Virginia, LLC

[Docket No. M-2002-109-C]

Coastal Coal-West Virginia, LLC, 61 Missouri Run Road, Cowen, West Virginia 26206 has filed a petition to modify the application of 30 CFR 75.1002 (Installation of electric equipment and conductors; permissibility) to its Mine No. 10A (MSHA I.D. No. 46-08852) located in Webster County, West Virginia. The petitioner proposes to use continuous mining machines with nominal voltage of the power circuits not to exceed 2,400 volts at the Mine No. 10A. The petitioner asserts that the proposed alternative method would provide at least the same measure of protection as the existing standard.

9. Coastal Coal-West Virginia, LLC

[Docket No. M-2002-110-C]

Coastal Coal-West Virginia, LLC, 61 Missouri Run Road, Cowen, West Virginia 26206 has filed a petition to modify the application of 30 CFR 75.1002 (Installation of electric equipment and conductors; permissibility) to its Upper Mercer Mine (MSHA I.D. No. 46-08875) located in Webster County, West Virginia. The petitioner proposes to use continuous mining machines with nominal voltage of the power circuits not to exceed 2,400 volts at the Upper Mercer Mine. The petitioner asserts that the proposed alternative method would provide at least the same measure of protection as the existing standard.

10. Black Energy Coal, Inc.

[Docket No. M-2002-111-C]

Black Energy Coal, Inc., PO Box 159, Dana, Kentucky 41615 has filed a petition to modify the application of 30 CFR 75.503 (Permissible electric face equipment; maintenance) and 30 CFR 18.41(f) (Plug and receptacle-type connectors) to its Mine #2 (MSHA I.D. No. 15-18369) located in Pike County, Kentucky. For mobile battery-powered machines, the petitioner proposes to use permanently installed spring-loaded locking devices on the battery plug connectors to prevent unintentional loosening of battery plugs from battery receptacles and to eliminate the potential hazards associated with difficult removal of padlocks during emergency situations. The petitioner asserts that using padlocks instead of spring-loaded locking devices would not result in a diminution of safety to the miners. The petitioner further asserts that the proposed alternative method would provide at least the same measure of protection as the existing standard.

11. Black Energy Coal, Inc.

[Docket No. M-2002-112-C]

Black Energy Coal, Inc., PO Box 159, Dana, Kentucky 41615 has filed a petition to modify the application of 30 CFR 75.503 (Permissible electric face equipment; maintenance) and 30 CFR 18.41(f) (Plug and receptacle-type connectors) to its Mine #3 (MSHA I.D. No. 15-16856) located in Pike County, Kentucky. For mobile battery-powered machines, the petitioner proposes to use permanently installed spring-loaded locking devices on the battery plug connectors to prevent unintentional loosening of battery plugs from battery receptacles and to eliminate the potential hazards associated with difficult removal of padlocks during emergency situations. The petitioner asserts that using padlocks instead of spring-loaded locking devices would not result in a diminution of safety to the miners. The petitioner further asserts that the proposed alternative method would provide at least the same measure of protection as the existing standard.

Request for Comments

Persons interested in these petitions are encouraged to submit comments via e-mail to comments@msha.gov, or on a computer disk along with an original hard copy to the Office of Standards, Regulations, and Variances, Mine Safety and Health Administration, 1100 Wilson Boulevard, Room 2352, Arlington, Virginia 22209. All comments must be postmarked or received in that office on or before January 27, 2003. Copies of these petitions are available for inspection at that address.

Dated at Arlington, Virginia this 17th day of December 2002.
Marvin W. Nichols, Jr.,
Director, Office of Standards, Regulations, and Variances.

[FR Doc. 02-32456 Filed 12-24-02; 8:45 am]

BILLING CODE 4510-43-P